MERIT SYSTEMS PROTECTION BOARD

[MSPB Docket Number DC-0731-09-0261-R-1]

Hyginus U. Aguzie v. Office of Personnel Management

AGENCY: Merit Systems Protection Board.

ACTION: Notice.

SUMMARY: The Merit Systems Protection Board (MSPB) is providing notice of an extension of time in which parties may file amicus briefs in the matter of Hyginus U. Aguzie v. Office of Personnel Management, MSPB Docket Number DC-0731-09-0261-R-1.

DATES: All briefs submitted in response to this notice shall be filed with the Clerk of the Board on or before June 7, 2010.

ADDRESSES: Briefs must be filed with the Office of the Clerk of the Board, Merit Systems Protection Board, 1615 M Street, NW., Washington, DC 20419. All briefs shall be captioned “Hyginus U. Aguzie v. Office of Personnel Management” and entitled “Amicus Brief.” Only one copy of the brief need be submitted.

FOR FURTHER INFORMATION CONTACT: Matthew Shannon, Office of the Clerk of the Board, (202) 653-7200.

SUPPLEMENTARY INFORMATION: Aguzie and several other cases pending before the Board present the following legal issue: When the Office of Personnel Management (OPM) directs an agency to separate a tenured employee for suitability reasons, must the Board consider a subsequent appeal under 5 CFR part 731 as contemplated therein, or should the Board instead consider the appeal under 5 U.S.C. Chapter 75, given that the scope of a Chapter 75 appeal is broader than a part 731 appeal and that OPM generally lacks authority to issue regulations limiting statutory rights?

On April 16, 2010, MSPB published in the Federal Register a Notice (See 75 FR 20007) that interested parties may submit amicus briefs or other comments on this issue no later than May 24, 2010. The MSPB is extending the time until June 7, 2010. Interested parties must file amicus briefs with the Clerk of the Board. Briefs shall not exceed 15 pages in length. The text shall be double-spaced, except for quotations and footnotes, and the briefs shall be on 8½ by 11 inch paper with one inch margins on all four sides.

Dated: May 18, 2010.
William D. Spencer,
Clerk of the Board.

[FR Doc. 2010-12444 Filed 5-21-10; 11:15 am]

BILLING CODE 7400-01-P